DEPARTMENT OF TRANSPORTATION

Federal Aviation Administration

14 CFR Part 71

[Airspace Docket No. 00-AGL-17]

Modification of Class E Airspace; Dickinson, ND

AGENCY: Federal Aviation Administration (FAA), DOT.

ACTION: Final rule.

SUMMARY: This action modifies Class E airspace at Dickinson, ND. An examination of the Class E airspace for Dickinson, ND, has revealed a discrepancy in the airport reference point used for the controlled airspace legal descriptions. This action corrects that discrepancy by incorporating the current airport reference point in the Class E airspace for Dickinson Municipal Airport.

EFFECTIVE DATE: 0901 UTC, November 30, 2000.

FOR FURTHER INFORMATION CONTACT: Denis C. Burke, Air Traffic Division, Airspace Branch, AGL-520, Federal Aviation Administration, 2300 East Devon Avenue, Des Plaines, Illinois 60018, telephone (847) 294-7568.

SUPPLEMENTARY INFORMATION:

History

On Friday, June 16, 2000, the FAA proposed to amend 14 CFR part 71 to modify Class E airspace at Dickinson, ND (65 FR 37725). The proposal was to modify controlled airspace extending upward from the surface to contain Instrument Flight Rules (IFR) operations in controlled airspace during portions of the terminal operation and while transiting between the enroute and terminal environments.

Interested parties were invited to participate in this rulemaking proceeding by submitting written comments on the proposal to the FAA. No comments objecting to the proposal were received. Class E airspace areas designated as surface areas are published in paragraph 6002, and Class E airspace areas extending upward from 700 feet or more above the surface are published in paragraph 6005, of FAA Order 7400.9G dated September 1, 1999, and effective September 16, 1999, which is incorporated by reference in 14 CFR 71.1. The Class E airspace designations listed in this document will be published subsequently in the Order.

The Rule

This amendment to 14 CFR part 71 modifies Class E airspace at Dickinson, ND, to accommodate aircraft executing instrument flight procedures into and out Dickinson Municipal Airport. The area will be depicted on appropriate aeronautical charts.

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 95665, 3 CFR, 1959-1963 Comp., p. 389.

§ 71.1 [Amended]

2. The incorporation by reference in 14 CFR 71.1 of the Federal Aviation Administration Order 7400.9G, Airspace Designations and Reporting Points, dated September 1, 1999, and effective September 16, 1999, is amended as follows:

* * * * *

Paragraph 6002 Class E airspace designated as a surface area.

* * * * *

AGL ND E2 Dickinson, ND [Revised]

Dickinson Municipal Airport, ND

(Lat 46°47′51″ N., long 102°48′ 07″ W.)

Dickinson VORTAC

(Lat 46°47′51″ N., long 102°48′ 07″ W.)

Within an 4.4-mile radius of the Dickinson Municipal Airport, and within 1.4 miles each side of the 150° bearing from the airport, extending from the 4.4-mile radius to 7.0 miles southeast of the airport.

* * * * *

Paragraph 6005 Class E airspace areas extending upward from 700 feet or more above the surface of the earth.

* * * * *

AGL ND E5 Dickinson, ND [Reviseds]

Dickinson Municipal Airport, ND

(Lat 46°47′51″ N., long 102°48′07″ W.)

Dickinson VORTAC

(Lat 46°51′36″ N., long 102°46′25″ W.)

That airspace extending upward from 700 feet above the surface within an 8.3-mile radius of the Dickinson Municipal Airport, and within 4.0 mileseach side of the 150° bearing from the airport, extending from the 8.3-mile radius to 14.0 miles southeast of the airport, and that airspace extending upward from 1,200 feet above the surface within a 225.2-mile radius of the Dickinson VORTAC extending clockwise from the Dickinson VORTAC 214° radial to the Dickinson VORTAC 093° radial.

* * * * *

Issued in Des Plaines, Illinois on August 7, 2000.
Christopher R. Blum,
Manager, Air Traffic Division, Great Lakes Region.

[FR Doc. 00-21815 Filed 8-25-00; 8:45 am]

BILLING CODE 4910-13-M